NATIONAL SCIENCE FOUNDATION

National Science Board; Workshop on Hurricane Science and Engineering

Date and Time: April 18, 2006, 8 a.m.-6:15 p.m. (CT).

Place: Institute for Human and Machine Cognition, 40 South Alcaniz Street, Pensacola, Florida.

Contact Information: Please refer to the National Science Board Web site (http://www.nsf.gov/nsb) for updated Agenda. NSB Office; Mrs. Susan E. Fannoney (703) 292-7000.

Status: This Workshop will be open to the public.

Provisional Agenda

Toward a National Agenda for Hurricane Science and Engineering, Workshop #3: Academic Research Perspectives

8 a.m. Welcoming Remarks—Dr. Warren M. Washington, Chairman, National Science Board.

8:05 a.m. Motivation, Purpose and Goals. Drs. Kelvin K. Droegemeier and Ken Ford, National Science Board Members and co-chairs of Board Task Force on Hurricane Science and Engineering..

8:20 a.m. Process and Logistics for NSB Workshops. Dr. Michael Crosby, Executive Officer, National Science Board.

8:30 a.m. Panel Session I: Physical, Biological and Ecological Sciences.

10:10 a.m. Roundtable Discussion.

10:40 a.m. Break.

10:55 a.m. Panel Session II: Social, Behavioral, and Economic Sciences.

12:15 a.m. Roundtable Discussion.

12:45 a.m. Break.

2 p.m. Panel Session III: Engineering and Infrastructure.

3:40 p.m. Roundtable Discussion.

4:10 p.m. Break-Out Groups (Sessions I, II, III).

5:15 p.m. Break-Out Group Reports and Discussion 5 p.m. Summary and Next Steps.

6:15 p.m. Adjourn.

Michael P. Crosby,
Executive Officer and NSB Office Director.

[FR Doc. 06-3607 Filed 4-12-06; 8:45 am]

BILLING CODE 7555-01-M